COMMISSION ON CIVIL RIGHTS

Notice of Virtual Public Meeting of the Puerto Rico Advisory Committee to the U.S. Commission on Civil Rights

AGENCY: Commission on Civil Rights.

ACTION: Notice of meeting.

SUMMARY: Notice is hereby given, pursuant to the provisions of the rules and regulations of the U.S. Commission on Civil Rights (Commission), and the Federal Advisory Committee Act (FACA), that a meeting of the Puerto Rico Advisory Committee to the Commission will hold a public meeting via Zoom. The purpose of the meeting is to continue discussion on their project on the civil rights impacts of the Insular Cases in Puerto Rico.

DATES: March 21, 2024, Thursday, at 3:30 p.m. Atlantic Time (3:30 p.m. EDT).

ADDRESSES: Meeting will be held via Zoom webinar.

Registration Link (Audio/Visual): http://tinyurl.com/bdz3xfk5; password, if needed: USCCR-PR.

Join by Phone (Audio Only): 1-833-435-1820 USA Toll Free; Webinar ID: 160 695 3730#.

FOR FURTHER INFORMATION CONTACT: Email Victoria Moreno, Designated Federal Officer at vmoreno@usccr.gov, or by phone at 434-515-0204.

SUPPLEMENTARY INFORMATION: The meeting will take place in Spanish with English interpretation. This committee meeting is available to the public through the registration link and/or the phone number and webinar ID above. Interested members of the public are welcome and invited to listen to the meeting. Toward the conclusion of committee business, an open comment period will be provided to allow members of the public to make comments as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning is available by selecting `CC' in the meeting platform. To request additional accommodations, please email ebohor@usccr.gov at least 10 business days prior to the meeting.

Members of the public are entitled to submit written comments; the comments must be received within 30 days following the meeting. Written comments may be emailed to Victoria Moreno at vmoreno@usccr.gov. Persons who desire additional information may contact the Regional Programs Coordination Unit at 1-312-353-8311.

Records generated from this meeting may be inspected and reproduced at the Regional Programs Coordination Unit Office, as they become available, both before and after the meeting. Records of the meetings will be available via the following website, www.facadatabase.gov, and under the Commission on Civil Rights, Puerto Rico Advisory Committee link. Persons interested in the work of this Committee are directed to the Commission's website, http://www.usccr.gov, or may contact the Regional Programs Coordination Unit at ebohor@usccr.gov.

Agenda

1. Welcome & Roll Call

2. Committee Discussion on Project Regarding the Civil Rights Impacts of the Insular Cases in Puerto Rico

3. Next Steps

4. Public Comment

5. Other Business or Next Steps

6. Adjourn

Dated: March 4, 2024.
David Mussatt,
Supervisory Chief, Regional Programs Unit.

[FR Doc. 2024-04862 Filed 3-6-24; 8:45 am]

BILLING CODE P